DEPARTMENT OF TRANSPORTATION

Federal Aviation Administration

14 CFR Part 39

[Docket No. FAA-2007-27257; Directorate Identifier 2006-NM-131-AD]

RIN 2120-AA64

Airworthiness Directives; Airbus Model A300 Airplanes; and Model A300 B4-600, B4-600R, and F4-600R Series Airplanes, and Model A300 C4-605R Variant F Airplanes (Collectively Called A300-600 Series Airplanes)

AGENCY: Federal Aviation Administration (FAA), Department of Transportation (DOT).

ACTION: Notice of proposed rulemaking (NPRM).

SUMMARY: The FAA proposes to adopt a new airworthiness directive (AD) for all Airbus Model A300 airplanes and Model A300-600 series airplanes. This proposed AD would require inspecting to determine the part number of the sliding rods of the main landing gear (MLG) retraction actuators. For MLG retraction actuators equipped with sliding rods having certain part numbers, this proposed AD would also require inspecting for discrepancies, including but not limited to cracking, of the sliding rod; and performing corrective actions if necessary. This proposed AD results from a report of a failure of a sliding rod of the MLG retraction actuator before the actuator reached the life limit established by the manufacturer. We are proposing this AD to prevent failure of the sliding rod of the MLG retraction actuator, which could result in reduced structural integrity of the MLG.

DATES: We must receive comments on this proposed AD by March 16, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “FAA-2007-27257; Directorate Identifier 2006-NM-131-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the Technical Agent for the Member States of the European Community, notified us that an unsafe condition may exist on all Airbus Model A300 airplanes; and Model A300 B4-600, B4-600R, and F4-600R series airplanes, and Model A300 C4-605R Variant F airplanes (collectively called A300-600 series airplanes). The EASA advises of a report of a failure of a sliding rod of the main landing gear (MLG) retraction actuator. The total number of flight cycles on the actuator at the time of the failure was close to, but below, the life limit of 32,000 flight cycles established by the manufacturer. Failure of a sliding rod of the MLG retraction actuator, if not corrected, could result in reduced structural integrity of the MLG.

Relevant Service Information

Airbus has issued Service Bulletins A300-32-0450 (for Model A300 airplanes) and A300-32-6097 (for Model A300-600 series airplanes), both Revision 01, both dated May 10, 2006. The service bulletins describe procedures for inspecting to determine the part number (P/N) of the sliding rod of the MLG retraction actuators on the left-hand and right-hand MLGs. For MLG retraction actuators equipped with sliding rods having certain part numbers, the service bulletins describe procedures for detailed and high frequency eddy current (HFEC) inspections to detect discrepancies, including but not limited to cracking, of the thread of the sliding rod, and corrective actions if necessary. The corrective action, if any discrepancy is found, is replacing the MLG retraction actuator with a new or serviceable actuator that has a new sliding rod. The service bulletins also note that the MLG retraction actuator must be replaced with a new or serviceable actuator before the 32,000-flight-cycle life limit, regardless of the inspection findings. Accomplishing the actions specified in the service information is intended to adequately address the unsafe condition. The EASA mandated the service information and issued airworthiness directive 2006-0075R2, dated January 4, 2007, to ensure the continued airworthiness of these airplanes in the European Union.

The Airbus service bulletins refer to Messier-Dowty Special Inspection Service Bulletin 470-32-806, dated October 27, 2005, as an additional source of service information for performing the detailed and HFEC inspections to detect discrepancies of the sliding rod.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are proposing this AD, which would require accomplishing the actions specified in the service information described previously. This proposed AD would also require repeating the inspections in this proposed AD on MLG retraction actuators installed in accordance with this proposed AD prior to the accumulation of 27,000 flight cycles on those actuators.

Difference Between the Proposed AD and the EASA Airworthiness Directive

The EASA airworthiness directive specifies that MLG retraction actuator rods that have reached the life limit of 32,000 flight cycles must be returned to Messier-Dowty. However, this proposed AD would not require that action. We have included a reminder to operators in Note 3 of this proposed AD that the MLG retraction actuator rod must be replaced before the 32,000-flight-cycle life limit specified in the applicable airworthiness limitations document.

Clarification of Requirement To Repeat Inspections

The EASA's airworthiness directive and the referenced Airbus service bulletins do not specifically state that the inspections must be accomplished on all actuators installed from spares when they reach the inspection threshold. However, we have determined that these inspections are necessary on any MLG retraction actuator equipped with a sliding rod having P/N C69029-2 or C69029-3 when the MLG retraction actuator reaches the thresholds specified in this proposed AD. This is consistent with the intent of the EASA's airworthiness directive and the service bulletins.

Costs of Compliance

The following table provides the estimated costs for U.S. operators to comply with this proposed AD, at an average labor rate of $80 per hour, per inspection cycle.

Estimated Costs
Action | Work hours | Parts | Cost per airplane | Number of U.S.-registered airplanes | Fleet cost
Inspection to determine part number | 1 | None | $80 | 168 | $13,440
Inspections for discrepancies | 11 | None | 880 | 168 | 147,840

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2007-27257; Directorate Identifier 2006-NM-131-AD.

Comments Due Date

(a) The FAA must receive comments on this AD action by March 16, 2007.

Affected ADs

(b) None.

Applicability

(c) This AD applies to all Airbus Model A300 airplanes; and all Airbus Model A300 B4-601, A300 B4-603, A300 B4-620, A300 B4-622, A300 B4-605R, A300 B4-622R, A300 F4-605R, A300 F4-622R, and A300 C4-605R Variant F airplanes; certificated in any category.

Unsafe Condition

(d) This AD results from a report of a failure of a sliding rod of the main landing gear (MLG) retraction actuator before the actuator reached the life limit established by the manufacturer. We are issuing this AD to prevent failure of the sliding rod of the MLG retraction actuator, which could result in reduced structural integrity of the MLG.

Compliance

(e) You are responsible for having the actions required by this AD performed within the compliance times specified, unless the actions have already been done.

Service Bulletin Reference

(f) The term “service bulletin,” as used in this AD, means the Accomplishment Instructions of the service bulletins identified in paragraphs (f)(1) and (f)(2) of this AD, as applicable. Where these service bulletins refer to an inspection report, this AD does not require submitting an inspection report.

(1) For Model A300 airplanes: Airbus Service Bulletin A300-32-0450, Revision 01, excluding Appendix 01, dated May 10, 2006.

(2) For Model A300 B4-601, A300 B4-603, A300 B4-620, A300 B4-622, A300 B4-605R, A300 B4-622R, A300 F4-605R, A300 F4-622R, and A300 C4-605R Variant F airplanes: Airbus Service Bulletin A300-32-6097, Revision 01, excluding Appendix 01, dated May 10, 2006.

Note 1: The Airbus service bulletins refer to Messier-Dowty Special Inspection Service Bulletin 470-32-806, dated October 27, 2005, as an additional source of service information for performing detailed and high-frequency eddy current (HFEC) inspections to detect discrepancies of the sliding rod.

Inspection to Determine Part Number (P/N) of Sliding Rod

(g) At the time specified in paragraph (g)(1) or (g)(2) of this AD, whichever is later, do a one-time inspection to determine the part number of the sliding rod of the MLG retraction actuator, in accordance with the applicable service bulletin. If no sliding rod having P/N C69029-2 or C69029-3 is installed, no further action is required by this paragraph.

(1) Before the accumulation of 27,000 total flight cycles on the MLG retraction actuator.

(2) Within 1,000 landings or 12 months after the effective date of this AD, whichever is first.

Inspection for Discrepancies of Sliding Rod

(h) For MLG retraction actuators equipped with sliding rods having P/N C69029-2 or C69029-3: At the later of the times specified in paragraph (g)(1) or (g)(2) of this AD, perform detailed and HFEC inspections of the sliding rod of the MLG retraction actuators on the left-hand and right-hand MLGs, in accordance with the applicable service bulletin. Then, before further flight, perform all applicable corrective actions, in accordance with the applicable service bulletin.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: Operators should note that the MLG retraction actuator rod must be replaced with a new or serviceable actuator rod before the 32,000-flight-cycle life limit specified in the applicable airworthiness limitations document, regardless of the inspection findings.

Parts Installation for MLG Retraction Actuator Rod

(i) As of the effective date of this AD, no person may install, on any airplane, an MLG retraction actuator that is equipped with a sliding rod having P/N C69029-2 or C69029-3, and on which the retraction actuator rod has accumulated 27,000 total flight cycles or more, unless paragraph (h) of this AD is accomplished.

Actions Accomplished According to a Previous Issue of the Service Bulletins

(j) Inspections and corrective actions done before the effective date of this AD in accordance with the following service bulletins are acceptable for compliance with the corresponding requirements of this AD:

(1) For Model A300 airplanes: Airbus Service Bulletin A300-32-0450, excluding Appendix 01, dated December 1, 2005.

(2) For Model A300 B4-601, A300 B4-603, A300 B4-620, A300 B4-622, A300 B4-605R, A300 B4-622R, A300 F4-605R, A300 F4-622R, and A300 C4-605R Variant F airplanes: Airbus Service Bulletin A300-32-6097, excluding Appendix 01, dated December 1, 2005.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) European Aviation Safety Agency airworthiness directive 2006-0075R2, dated January 4, 2007, also addresses the subject of this AD.

Issued in Renton, Washington, on February 6, 2007.
Ali Bahrami,
Manager, Transport Airplane Directorate, Aircraft Certification Service.

[FR Doc. E7-2513 Filed 2-13-07; 8:45 am]

BILLING CODE 4910-13-P